DEPARTMENT OF HOMELAND SECURITY

Coast Guard

[Docket No. USCG-2011-1167]

Cooperative Research and Development Agreement: Technology To Provide Wireless Precise Time; Alternatives to Global Positioning Systems

AGENCY: Coast Guard, DHS.

ACTION: Notice of intent; request for public comments.

SUMMARY: The Coast Guard is announcing its intent to enter into a Cooperative Research and Development Agreement (CRADA) with UrsaNav, Inc., to research, evaluate, and document at least one alternative to Global Positioning Systems (GPS) as a means of providing precise time. The alternative under consideration is a wireless technical approach for providing precise time using U.S. government facilities and frequency authorizations. The Coast Guard invites public comment on the proposed CRADA and also invites other non-Federal participants, who have the interest and capability to bring similar contributions to this type of research, to consider entry into similar CRADAs.

DATES: Comments and related material on the proposed CRADA must either be submitted to our online docket via http://www.regulations.gov on or before February 10, 2012, or reach the Docket Management Facility by that date.

Notifications from parties interested in participating as a non-Federal participant in a CRADA similar to the one described in this notice must reach the Docket Management Facility on or before February 10, 2012.

Do not submit detailed proposals for different CRADAs to the Docket Management Facility. Instead, if you are interested in being a non-Federal participant in a different CRADA, you may submit detailed proposals to LT Helen Y. Millward, U.S. Coast Guard Research and Development Center, 1 Chelsea Street, New London, CT 06320, telephone: (860) 271-2815, email: Helen.Y.Millward@uscg.mil.

ADDRESSES: You may submit written comments on this notice identified by docket number USCG-2011-1167 using any one of the following methods:

(1) Federal eRulemaking Portal: http://www.regulations.gov.

(2) Fax: (202) 493-2251.

(3) Mail: Docket Management Facility (M-30), U.S. Department of Transportation, West Building Ground Floor, Room W12-140, 1200 New Jersey Avenue SE., Washington, DC 20590-0001.

(4) Hand delivery: Same as mail address above, between 9 a.m. and 5 p.m., Monday through Friday, except Federal holidays. The telephone number is (202) 366-9329.

To avoid duplication, please use only one of these four methods. See the “Public Participation and Request for Comments” portion of the SUPPLEMENTARY INFORMATION section below for instructions on submitting comments.

FOR FURTHER INFORMATION CONTACT: If you have questions concerning this notice or desire to submit a CRADA proposal, please contact LT Helen Y. Millward, U.S. Coast Guard Research and Development Center, 1 Chelsea Street, New London, CT 06320, telephone: (860) 271-2815, email: Helen.Y.Millward@uscg.mil. If you have questions on viewing or submitting material to the docket, call Ms. Renee V. Wright, Program Manager, Docket Operations, telephone (202) 366-9826.

SUPPLEMENTARY INFORMATION:

Public Participation and Request for Comments

We encourage you to submit comments and related material on this notice. All comments received will be posted, without change, to http://www.regulations.gov and will include any personal information you have provided.

Submitting Comments

If you submit a comment, please include the docket number for this notice (USCG-2011-1167), and provide a reason for each suggestion or recommendation. You may submit your comments and material online via http://www.regulations.gov, or by fax, mail or hand delivery, but please use only one of these means. If you submit a comment online via http://www.regulations.gov, it will be considered received by the Coast Guard when you successfully transmit the comment. If you fax, hand deliver, or mail your comment, it will be considered as having been received by the Coast Guard when it is received at the Docket Management Facility. We recommend that you include your name and a mailing address, an email address, or a telephone number in the body of your document so that we can contact you if we have questions regarding your submission.

To submit your comment online, go to http://www.regulations.gov and type “USCG-2011-1167” in the “Keyword” box. If you submit your comments by mail or hand delivery, submit them in an unbound format, no larger than 8½ by 11 inches, suitable for copying and electronic filing. If you submit comments by mail and would like to know that they reached the Facility, please enclose a stamped, self-addressed postcard or envelope. We will consider all comments and material received during the comment period.

Viewing Comments and Related Material

To view the comments and related material, go to http://www.regulations.gov, click on the “read comments” box, which will then become highlighted in blue. In the “Keyword” box, insert “USCG-2011-1167” and click “Search.” Click the “Open Docket Folder” in the “Actions” column. If you do not have access to the Internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

Privacy Act

Anyone can search the electronic form of comments received into any of our dockets by the name of the individual submitting the comment (or signing the comment, if submitted on behalf of an association, business, labor union, etc.). You may review a Privacy Act, system of records notice regarding our public dockets in the January 17, 2008, issue of the Federal Register (73 FR 3316).

Cooperative Research and Development Agreements

Cooperative Research and Development Agreements (CRADAs), are authorized by the Federal Technology Transfer Act of 1986 (Pub. L. 99-502, codified at 15 U.S.C. 3710(a)). A CRADA promotes the transfer of technology to the private sector for commercial use as well as specified research or development efforts that are consistent with the mission of the Federal parties to the CRADA. The Federal party or parties agree with one or more non-Federal parties to share research resources, but the Federal party does not contribute funding. The Department of Homeland Security (DHS), as an executive agency under 5 U.S.C. 105, is a Federal agency for purposes of 15 U.S.C. 3710(a) and may enter into a CRADA. DHS delegated its authority to the Commandant of the Coast Guard (see DHS Delegation No. 0160.1, para. 2.B(34)), and the Commandant has delegated his authority to the Coast Guard's Research and Development Center (R&DC).

CRADAs are not procurement contracts. Care is taken to ensure that CRADAs are not used to circumvent the contracting process. CRADAs have a specific purpose and should not be confused with other types of agreements such as procurement contracts, grants, and cooperative agreements.

Goal of Proposed CRADA

Under the proposed CRADA, the Coast Guard's R&DC would collaborate with non-Federal participants. Together, the R&DC and the non-Federal participants would research, evaluate, and document at least one alternative to Global Positioning Systems (GPS) as a means of providing precise time. The alternative under consideration is a wireless technical approach for providing precise time using U.S. government facilities and frequency authorizations.

The CRADA participants will determine the viability of certain wireless alternative timing approaches by conducting live, on-air tests that will be broadcast from former Long Range Navigation (LORAN) sites, using existing government-provided and non-Federal CRADA participant-provided transmitting equipment. On-air testing may also be conducted from other sites as deemed necessary during CRADA testing. Reception of these test broadcasts are planned at both on-shore and off-shore locations. The testing will be conducted in four phases. The first phase will consist of testing on LORAN frequencies (90-110 kHz); the second phase will be conducted on dGPS frequencies (283.5-325 kHz); the third phase will be conducted on HA-dGPS frequencies (435-490 kHz); and the fourth phase will be conducted on a former international calling and distress frequency (500 kHz). All four phases may be tested concurrently.

Party Contributions

We anticipate that the Coast Guard's contributions under the proposed CRADA will include the following:

(1) Provide CRADA participants with access to, and appropriate use of, the facilities at former LORAN Stations, present dGPS sites, and other government locations for the conduct of CRADA work;

(2) Provide CRADA participants with all necessary frequency authorizations for their broadcast within the frequency bands identified for the CRADA work;

(3) Provide CRADA participants with all necessary approvals and access for their installation of the “precise time” receivers and automated/remotely operated data collection equipment aboard at least one Coast Guard vessel; and

(4) Develop the Technology Demonstration Description document, Test Plan, and Project Report for each phase of the CRADA work.

We anticipate that the non-Federal participants' contributions under the proposed CRADA will include the following:

(1) Provide appropriate input to the R&DC for the development of the Technology Demonstration Description document, and Test Plan for each phase of the CRADA work;

(2) Provide, install, operate, maintain, and remove all material (including hardware, software, and test equipment), along with the associated labor, needed for the Technology Demonstration as set forth within the Test Plan for each phase of the CRADA work;

(3) Provide the R&DC with a Test Report as set forth within the Test Plan for each phase of the CRADA work; and

(4) Provide input into the Coast Guard-developed, Project Report for each phase of the CRADA work.

Selection Criteria

The Coast Guard reserves the right to select for CRADA participants all, some, or none of the proposals in response to this notice. The Coast Guard will provide no funding for reimbursement of proposal development costs. Proposals (or any other material) submitted in response to this notice will not be returned. Proposals submitted are expected to be unclassified and have no more than four single-sided pages (excluding cover page and resumes). The Coast Guard will select proposals at its sole discretion on the basis of:

(1) How well they communicate an understanding of, and ability to meet, the proposed CRADA's goal; and

(2) How well they address the following criteria:

(a) Technical capability to support the non-Federal party contributions described; and

(b) Resources available for supporting the non-Federal party contributions described.

Currently, the Coast Guard is considering UrsaNav, Inc., for participation in this CRADA. This consideration is based on UrsaNav, Inc.'s: (1) Expertise, experience, and interest in low-frequency “precise time” technology; and (2) capability to provide the significant contributions required for the CRADA work. However, we do not wish to exclude other viable participants from this or future similar CRADAs.

This is a technology transfer/development effort. Presently, the Coast Guard has no plan to acquire, operate, or provide alternative wireless time technology or services. Since the goal of this CRADA is to identify and investigate the advantages, disadvantages, performance, costs, and other issues associated with using alternative wireless time technology, and not to set future Coast Guard acquisition requirements for the same, non-Federal CRADA participants will not be excluded from any future Coast Guard procurements based solely on their participation in this CRADA.

Special consideration will be given to small business firms/consortia, and preference will be given to business units located in the U.S.

Authority

This notice is issued under the authority of 15 U.S.C. 3710(a), 5 U.S.C. 552(a), and 33 CFR 1.05-1.

Dated: January 3, 2012.
Alan N. Arsenault,
Capt, USCG, Commanding Officer, U.S. Coast Guard Research and Development Center.

[FR Doc. 2012-307 Filed 1-10-12; 8:45 am]

BILLING CODE 9110-04-P